DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 9, 2016.

ADDRESSES: Record Center, Pipeline and Hazardous Materials Safety Administration U.S. Department of Transportation Washington, DC 20590. Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on July 19, 2016.
Donald Burger,
Chief, Office of the Special Permits and Approvals.

Application No. | Docket No. | Applicant | Regulation(s) affected | Nature of the special permits thereof
SPECIAL PERMITS DATA
20260-N |  | ROGERS HELICOPTERS, INC | 173.27(b)(2), 172.101(j), 172.200(a), 172.200, 172.204(c)(3), 172.400(b), 172.400a(a), 172.300(a), 172.300, 172.301(c), 175.75(b), 175.75(c), 178.1010(a)(1) | To authorize the transportation in commerce of certain hazardous materials by 14 CFR part 133 Rotorcraft External Load Operations transporting hazardous materials attached to or suspended from an aircraft, in remote areas of the US only, without being subject to hazard communication requirements, quantity limitations, and certain loading and stowage requirements. (mode 3).
20262-N |  | SHIJIAZHUANG ENRIC GAS EQUIPMENT CO., LTD | 173.302(a), 173.304(a) | To authorize the transportation of certain hazardous materials in non-DOT specification fiber reinforced composite cylinders. (mode 1).
20265-N |  | HYPERCOMP ENGINEERING, INC | 178.71(l)(ii) | To authorize the manufacture, mark, sale, and use of non-DOT specification composite overwrapped pressure vessels for the transportation of certain hazardous materials. (modes 1, 2, 3, 4).
20266-N |  | ZHEJIANG TIANTAI ZHANTU AUTOMOBILE SUPPLIES CO., LTD | 173.304(a), 172.304(d) | To authorize the manufacture, mark, sale and use of a non-refillable, non-DOT specification inside metal container conforming to all regulations applicable to a DOT specification 2Q for the transportation in commerce of the materials authorized by this special permit. (modes, 1, 2, 3, 4).
20271-N |  | BALL AEROSPACE & TECHNOLOGIES CORPORATION | 173.24(b)(1) | To authorize the transportation in commerce of DOT specification cylinders that have an identifiable release of hazardous materials during transportation. (mode 1).
20272-N |  | BALL AEROSPACE & TECHNOLOGIES CORPORATION | 173.24(b)(1), 173.185(a) | To authorize the transportation in commerce of low production lithium ion batteries contained in equipment via highway transportation. (mode 1).
20273-N |  | ATK LAUNCH SYSTEMS INC | 173.56(a), 172.320 | To authorize the one-time, one-way transportation of blasting caps that have not been issued an EX approval. (mode 1).
20274-N |  | SDV (USA) INC | 172.101(j), 172.300, 172.400, 173.21, 173.301, 173.302(a), 173.304(a) | To authorize the transportation in commerce of certain non-DOT specification containers containing certain Division 2.1, 2.2, 2.3 liquefied and compressed gases and other hazardous materials for use in specialty cooling applications such as satellites and military aircraft. (modes 1, 4).
20275-N |  | ST. LOUIS HELICOPTER LLC | 172.600, 172.200, 172.400, 172.300, 175.1(a) | To authorize the transportation in commerce in the U.S. only of certain hazardous materials by 14 CFR Part 133 Rotorcraft External Load Operations transporting hazardous materials attached to or suspended from an aircraft and 14 CFR part 135 operations transporting hazardous materials on board an aircraft. (mode 4).
20277-N |  | VAN HOOL NV | 178.274(b), 178.277(b) | To authorize the manufacture, mark, sale, and use of portable tanks meeting the requirements of the latest edition of the Section VIII of the ASME Code. (mode 1, 2, 3).
20282-N |  | U.S. WATER ENERGY SERVICES, INC | 173.35(f)(1) | To authorize the transportation in commerce of a damaged IBC with corrosive residue on the outside of the container. (mode 1).

[FR Doc. 2016-18199 Filed 8-9-16; 8:45 am]

BILLING CODE 4909-60-M